DEPARTMENT OF TRANSPORTATION

Federal Railroad Administration

[Docket Number FRA-2016-0058]

Notice of Application for Approval of Discontinuance or Modification of a Railroad Signal System

Under part 235 of Title 49 of the Code of Federal Regulations (CFR) and 49 U.S.C. 20502(a), this provides the public notice that on June 30, 2017, Watco Companies LLC (Watco) petitioned the Federal Railroad Administration (FRA) seeking reconsideration of a decision regarding the discontinuance or modification of a signal system. FRA assigned the petition Docket Number FRA-2016-0058.

Applicant: Watco Companies LLC, Anthony Cox, VP of Engineering, 315 E. 3rd St., Pittsburg, KS 66762.

Watco is the owner-operator of the Grand Elk Railroad LLC (GDLK), which operates on track that is currently leased from Norfolk Southern Railway Company (NS). Watco requests reconsideration under 49 CFR 235.13(a) of FRA's denial of its application to discontinue and remove the traffic control system (TCS) from mile post (MP) 33.00 at Park, in Grand Rapids, MI to MP 1.4 at the end of GDLK, in Elkhart, IN. FRA issued its decision letter denying the application on November 29, 2016, and issued a second letter to clarify the basis of its decision on January 10, 2017.

Based on new facts and new evidence, Watco is seeking reconsideration of its application on behalf of GDLK. Watco asserts that FRA's Railroad Safety Board (Board) based its denial on erroneous information. Watco believes the hazardous materials (hazmat) information provided in the field report considered by the Board was out of date or incorrect.

Watco owns and operates 20 railroads on 3570 miles of main line that is track warrant controlled (TWC) and Watco states that of those railroads, 5 safely transport more hazmat than GDLK. GDLK conducts ultrasonic rail and geometry testing twice per year over the entire railroad. GDLK operates to the north of subject trackage from milepost 33 to milepost 102.3 a mix of TWC and yard limits (YL). There are two manual interlockings on the north section of track using TWC as an acceptable method of operation. TWC is the method of operation used by all dispatched Watco railroads, including parts of the GDLK. Watco states that the discontinuance of the TCS section and converting it to TWC maintains the consistency of dispatching and standardization of training for the GDLK, and will provide a higher level of safety through simplified operations by having one method of controlled operation rather than the two it has now. Watco further states that this consistency and standardization of dispatching and training will enhance the safety of GDLK operations.

A copy of the petition, as well as any written communications concerning the petition, is available for review online at www.regulatons.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue, SE., Room W12-140, Washington, DC 20590, between 9 a.m. and 5 p.m., Monday through Friday, except Federal Holidays.

Communications received by September 11, 2017 will be considered by FRA before final action is taken. Comments received after that date will be considered as far as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-15789 Filed 7-26-17; 8:45 am]

BILLING CODE 4910-06-P